INTERNATIONAL TRADE COMMISSION

[Investigation Nos. 701-TA-505 and 731-TA-1231-1237 (Preliminary)]

Grain-Oriented Electrical Steel From China, Czech Republic, Germany, Japan, Korea, Poland, and Russia; Determinations

On the basis of the record ¹ developed in the subject investigations, the United States International Trade Commission (Commission) determines, pursuant to sections 703(a) and 733(a) of the Tariff Act of 1930 (19 U.S.C. 1671b(a) and 1673b(a)) (the Act), that there is a reasonable indication that an industry in the United States is materially injured by reason of imports from China, Czech Republic, Germany, Japan, Korea, Poland, and Russia of grain-oriented electrical steel, provided for in subheadings 7225.11.00, 7226.11.10, and 7226.11.90 of the Harmonized Tariff Schedule of the United States, that are alleged to be sold in the United States at less than fair value (LTFV), and by reason of imports of grain-oriented electrical steel that are allegedly subsidized by the Government of China.

¹ The record is defined in sec. 207.2(f) of the Commission's Rules of Practice and Procedure (19 CFR 207.2(f)).

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On September 18, 2013, a petition was filed with the Commission and Commerce by of AK Steel Corp., West Chester, Ohio; Allegheny Ludlum, LLC, Pittsburgh, Pennsylvania; and the United Steelworkers, Pittsburgh, Pennsylvania, alleging that an industry in the United States is materially injured or threatened with material injury by reason of LTFV and subsidized imports of grain-oriented electrical steel from China and LTFV imports of grain-oriented electrical steel from Czech Republic, Germany, Japan, Korea, Poland, and Russia. Accordingly, effective September 18, 2013, the Commission instituted countervailing duty investigation No. 701-TA-505 and antidumping duty investigation Nos. 731-TA-1231-1237 (Preliminary).

Notice of the institution of the Commission's investigations and of a public conference to be held in connection therewith was given by posting copies of the notice in the Office of the Secretary, U.S. International Trade Commission, Washington, DC, and by publishing the notice in the Federal Register on September 25, 2013 ((78 FR 59059), as revised on October 21, 2013 (78 FR 64011, October 25, 2013)). The conference was held in Washington, DC, on October 25, 2013, and all persons who requested the opportunity were permitted to appear in person or by counsel.

The Commission transmitted its determinations in these investigations to the Secretary of Commerce on November 20, 2013. The views of the Commission are contained in USITC Publication 4439 (November 2013), entitled Grain-Oriented Electrical Steel From China, Czech Republic, Germany, Japan, Korea, Poland, and Russia.

By order of the Commission.
Issued: November 20, 2013.
Lisa R. Barton,
Acting Secretary to the Commission.

[FR Doc. 2013-28269 Filed 11-25-13; 8:45 am]

BILLING CODE 7020-02-P